DEPARTMENT OF COMMERCE

International Trade Administration

[A-555-003, A-557-830, A-549-851, A-552-841]

Crystalline Silicon Photovoltaic Cells, Whether or Not Assembled Into Modules From the Socialist Republic of Vietnam: Amended Final Antidumping Duty Determination; Crystalline Silicon Photovoltaic Cells, Whether or Not Assembled Into Modules From Cambodia, Malaysia, Thailand, and the Socialist Republic of Vietnam: Antidumping Duty Orders

AGENCY: Enforcement and Compliance, International Trade Administration, Department of Commerce.

SUMMARY: Based on affirmative final determinations by the U.S. Department of Commerce (Commerce) and the U.S. International Trade Commission (ITC), Commerce is issuing antidumping duty (AD) orders on crystalline silicon photovoltaic cells, whether or not assembled into modules (solar cells) from Cambodia, Malaysia, Thailand, and the Socialist Republic of Vietnam (Vietnam). In addition, Commerce is amending its final determination of sales at less than fair value (LTFV) with respect to solar cells from Vietnam to correct ministerial errors.

DATES: Applicable June 24, 2025.

FOR FURTHER INFORMATION CONTACT: Deborah Cohen (Vietnam), Office III; telephone: (202) 482-4521; Hermes Panilla (Cambodia), Office I; telephone: (202) 482-3477; Stephen Bailey (Thailand), Office IV; telephone: (202) 482-0193; and Patrick Barton (Malaysia), Office III; telephone: (202) 482-0012; AD/CVD Operations, Enforcement and Compliance, International Trade Administration, U.S. Department of Commerce, 1401 Constitution Avenue NW, Washington, DC 20230.

SUPPLEMENTARY INFORMATION:

Background

In accordance with sections 735(d) and 777(i) of the Tariff Act of 1930, as amended (the Act), on April 25, 2025, Commerce published its affirmative final determinations in the less-than-fair-value (LTFV) investigations of solar cells from Cambodia, Malaysia, Thailand, and Vietnam.¹

¹ See Crystalline Silicon Photovoltaic Cells, Whether or Not Assembled Into Modules, from Cambodia: Final Affirmative Determination of Sales at Less Than Fair Value, 90 FR 17392 (April 25, 2025) (Cambodia Final Determination); Crystalline Silicon Photovoltaic Cells, Whether or Not Assembled Into Modules, from Malaysia: Final Affirmative Determination of Sales at Less Than Fair Value, 90 FR 17376 (April 25, 2025) (Malaysia Final Determination); Crystalline Silicon Photovoltaic Cells, Whether or Not Assembled Into Modules, from Thailand: Final Affirmative Determination of Sales at Less-Than-Fair-Value and Final Affirmative Determination of Critical Circumstances, 90 FR 17395 (April 25, 2025) (Thailand Final Determination); and Crystalline Silicon Photovoltaic Cells, Whether or Not Assembled Into Modules, from the Socialist Republic of Vietnam: Final Affirmative Determination of Sales at Less Than Fair Value and Final Affirmative Determination of Critical Circumstances, in Part, 90 FR 17388 (April 25, 2025) (Vietnam Final Determination) (collectively, LTFV Final Determinations).

On June 9, 2025, the ITC notified Commerce of its final affirmative determinations, pursuant to section 735(d) of the Act, that an industry in the United States is materially injured within the meaning of section 735(b)(1)(A)(i) of the Act by reason of LTFV imports of solar cells from Malaysia and Vietnam, and that an industry in the United States is threatened with material injury by reason of imports of such merchandise from Cambodia and Thailand that are sold in the United States at LTFV.² Further, the ITC determined that critical circumstances do not exist with respect to LTFV imports of solar cells from Vietnam.³

² See ITC's Letter, “Notification of ITC Final Determination,” dated June 9, 2025 (ITC Notification Letter).

³ See ITC's Letter, “Chair Determinations Letter to {Commerce}—crystalline photovoltaic cells, whether or not assembled into modules,” dated June 9, 2025 (ITC Notification Letter). Having made a determination that an industry in the United States is threatened with material injury by reason of imports of solar cells from Thailand, the ITC did not reach the issue of critical circumstances regarding imports of subject merchandise from Thailand. See Crystalline Silicon Photovoltaic Cells, Whether or Not Assembled Into Modules from Cambodia, Malaysia, Thailand, and Vietnam, Investigation Nos. 701-TA-722-725 and 731-TA-1690-1693 (Final), USITC Pub. 5631 (June 2025) (ITC Final Report).

In the LTFV investigation of solar cells from Vietnam, the petitioners and a respondent timely alleged that Commerce made certain ministerial errors.⁴ See “Amendment to the Vietnam Final Determination of Sales at Less than Fair Value” section below for further discussion.

⁴ See JA Solar's Letter, “Ministerial Error Comments,” dated May 5, 2025 (JA Solar's ME Comments); Boviet's Letter, “Ministerial Error Comments,” dated May 5, 2025 (Boviet's ME Comments), and Petitioner's Letter, “Ministerial Error Allegations for the Final Determination,” dated May 5, 2025 (Petitioner's ME Comments).

Scope of the Orders

The product covered by these orders is solar cells from Cambodia, Malaysia, Thailand, and Vietnam. For a complete description of the scope of the orders, see the appendix to this notice.

Amendment to the Final Determination of Sales at LTFV for Vietnam

We determine that we made certain ministerial errors in the sales at LTFV final determination of solar cells from Vietnam. Pursuant to 19 CFR 351.224(e), and as explained further in the Vietnam Ministerial Error Memorandum, Commerce is amending the Vietnam Final LTFV Determination to reflect the correction of certain ministerial errors.⁵ Correction of these errors changes the final AD cash deposit rate for JA Solar Vietnam Co. Ltd. (JA Solar), and Jinko Solar (Vietnam) Industries Company Limited (Jinko), as well as the cash deposit rate for all other producers and exporters not individually investigated. The revised rates are listed in the “Estimated Weighted-Average Dumping Margins” section, below.

⁵ See Memorandum, “Analysis of Ministerial Error Allegations in the Final Determination,” dated May 19, 2025 (Vietnam Ministerial Error Memorandum).

Antidumping Duty Orders

Based on the above-referenced affirmative final determinations by the ITC that an industry in the United States is materially injured by reason of LTFV imports of solar cells from Malaysia and Vietnam, and that an industry in the United States is threatened with material injury by reason of imports of such merchandise from Cambodia and Thailand,⁶ and, in accordance with sections 735(c)(2) and 736 of the Act, Commerce is issuing these antidumping duty orders. Because the ITC determined that an industry in the United States is materially injured by reason of imports of solar cells from Vietnam and Malaysia, and that an industry in the United States is threatened with material injury by reason of imports of solar cells from Thailand and Cambodia, unliquidated entries of such merchandise from Cambodia, Malaysia, Thailand, and Vietnam, entered or withdrawn from warehouse for consumption, are subject to the assessment of antidumping duties.

⁶ See ITC Notification Letter; see also ITC Report.

Therefore, in accordance with section 736(a)(1) of the Act, Commerce will direct U.S. Customs and Border Protection (CBP) to assess, upon further instruction by Commerce, antidumping duties equal to the amount by which the normal value of the merchandise exceeds the export price (or constructed export price) of the merchandise on all relevant entries of solar cells from Cambodia, Malaysia, Thailand, and Vietnam. With the exception of entries occurring after expiration of the provisional measures period, but before publication of the ITC's final affirmative injury determination, as further described below, for all relevant entries of solar cells from Malaysia and Vietnam, antidumping duties will be assessed on unliquidated entries of solar cells entered, or withdrawn from warehouse, for consumption on or after December 4, 2024, the date of publication of the LTFV Preliminary Determinations.⁷

⁷ See Crystalline Silicon Photovoltaic Cells, Whether or Not Assembled Into Modules, from Cambodia: Affirmative Preliminary Determination of Sales at Less Than Fair Value, Postponement of Final Determination, and Extension of Provisional Measures, 89 FR 96226 (December 4, 2024); Crystalline Silicon Photovoltaic Cells, Whether or Not Assembled Into Modules, from Malaysia: Affirmative Preliminary Determination of Sales at Less Than Fair Value, Postponement of Final Determination, and Extension of Provisional Measures, 89 FR 96207 (December 4, 2024); Crystalline Silicon Photovoltaic Cells, Whether or Not Assembled Into Modules, from Thailand: Preliminary Affirmative Determination of Sales at Less-Than-Fair-Value, Affirmative Determination of Critical Circumstances, Postponement of Final Determination, and Extension of Provisional Measures, 89 FR 96214 (December 4, 2024); and Crystalline Silicon Photovoltaic Cells, Whether or Not Assembled Into Modules from the Socialist Republic of Vietnam: Preliminary Affirmative Determination of Sales at Less Than Fair Value, Preliminary Affirmative Determination of Critical Circumstances, in Part, and Postponement of Final Determination and Extension of Provisional Measures, 89 FR 96219 (December 4, 2024) (Vietnam Preliminary Determination) (collectively, LTFV Preliminary Determinations).

Pursuant to section 736(b)(2) of the Act, duties shall be assessed on subject merchandise entered, or withdrawn from warehouse, for consumption on or after the date of publication of the ITC's notice of final determination if that determination is based on the threat of material injury and is not accompanied by a finding that injury would have resulted without the imposition of suspension of liquidation of entries since Commerce's preliminary determination.

Additionally, section 736(b)(2) of the Act requires CBP to refund any cash deposits or bonds of estimated antidumping duties posted since the preliminary antidumping determination if the ITC's final determination is threat-based.

Because the ITC's final determination for Cambodia and Thailand is based on the threat of material injury and is not accompanied by a finding that injury would have resulted but for the imposition of suspension of liquidation of entries since the Cambodia and Thailand Preliminary Determinations, section 736(b)(2) of the Act is applicable.⁸ Therefore, Commerce will instruct CBP to assess duties on entries of solar cells from Cambodia and Thailand entered, or withdrawn from warehouse, for consumption on or after the date of publication of the ITC's notice of final determination of threat of material injury in the Federal Register, in accordance with the dumping margins listed in the rate charts below for Cambodia and Thailand.

⁸ See ITC Notification Letter.

Critical Circumstances

With respect to the ITC's negative critical circumstances determination on imports of solar cells from Vietnam, we will instruct CBP to lift the suspension of liquidation and to refund all cash deposits for estimated antidumping duties with respect to entries of the subject merchandise entered, or withdrawn from warehouse, for consumption on or after September 5, 2024, i.e., 90 days prior to the date of the publication of the Vietnam Preliminary Determination, but before December 4, 2024, the date of publication of the Vietnam Preliminary Determination.

Continuation of Suspension of Liquidation and Cash Deposits

Except as noted in the “Provisional Measures” section of this notice Commerce intends to instruct CBP to continue to suspend liquidation on all relevant entries of solar cells from Cambodia, Malaysia, Thailand, and Vietnam, in accordance with section 736 of the Act. These instructions suspending liquidations will remain in effect until further notice.

Commerce will also instruct CBP to require cash deposits equal to the estimated weighted-average dumping margins indicated in the tables below, adjusted by the relevant export subsidy offsets. Accordingly, effective on the date of publication in the Federal Register of the notice of the ITC's affirmative final injury determination, CBP must require, at the same time as importers would normally deposit estimated customs duties on subject merchandise, a cash deposit equal to the weighted-average dumping margins listed in the tables below. The all-others rate applies to all producers or exporters not specifically listed, as appropriate.

Estimated Weighted-Average Dumping Margins

The estimated weighted-average dumping margins, as published in Commerce's Final Determinations, are as follows:

Cambodia

Producer/exporter | Weighted-average dumping margin (percent) | Cash deposit rate (adjusted for subsidy offsets) (percent)
Hounen Solar Inc. Co. Ltd | * 125.37 | 117.18
Solar Long PV Tech Cambodia Co | * 125.37 | 117.18
All Others | 125.37 | 117.18
* Rates based on facts available with adverse inferences.

Malaysia

Producer/exporter | Weighted-average dumping margin (percent) | Cash deposit rate (adjusted for subsidy offsets) (percent)
Hanwha Q Cells Malaysia Sdn. Bhd | 0.00 | 0.00
Jinko Solar Technology Sdn. Bhd | 8.59 | 1.92
Baojia New Energy Manufacturing Sdn | * 81.24 | 81.24
CRC Solar Cell Joint Stock Company | * 81.24 | 81.24
Lynter Enterprise | * 81.24 | 81.24
Mega PP Sdn. Bhd | * 81.24 | 81.24
All Others | 8.59 | 1.92
* Rates based on facts available with adverse inferences.

Thailand

Producer/exporter | Weighted-average dumping margin (percent) | Cash deposit rate (adjusted for subsidy offsets) (percent)
Trina Solar Science & Technology (Thailand) Ltd | 111.45 | 111.45
Sunshine Electrical Energy | * 202.90 | 172.68
Taihua New Energy (Thailand) Co. Ltd | * 202.90 | 172.68
All Others | 111.45 | 111.45
* Rates based on facts available with adverse inferences.

Vietnam

Producer | Exporter | Weighted- average dumping margin (percent) | Cash deposit rate (adjusted for subsidy offsets) (percent)
JA Solar Vietnam Co. Ltd./JA Solar PV | JA Solar Vietnam Co. Ltd | 62.31 | 56.78
Jinko Solar (Vietnam) Industries Company Limited | Jinko Solar (Vietnam) Industries Company Limited | 126.18 | 120.65
Blue Moon Vina Co | Blue Moon Vina Co | 85.45 | 79.92
Boviet Solar Technology Co., Ltd | Boviet Solar Technology Co., Ltd | 85.45 | 79.92
Elite Solar Technology (Vietnam) Company Limited | Elite SNG | 85.45 | 79.92
Letsolar Vietnam Company Limited | Letsolar Vietnam Company Limited | 85.45 | 79.92
Mecen Solar Vina Co., Ltd | Mecen Solar Vina Co., Ltd | 85.45 | 79.92
Nexuns Vietnam Company Limited | Nexuns Vietnam Company Limited | 85.45 | 79.92
Trina Solar Energy Development Company Ltd | Trina Solar Energy Development Company Ltd | 85.45 | 79.92
Vietnergy Co., Ltd. and Tainergy Tech Co., Ltd | Vietnergy Co., Ltd. and Tainergy Tech Co., Ltd | 85.45 | 79.92
Vietnam Sunergy Joint Stock Company (f.k.a. Vietnam Sunergy Company Limited) | Vietnam Sunergy Joint Stock Company (f.k.a. Vietnam Sunergy Company Limited) | 85.45 | 79.92
Vietnam-Wide Entity |  | * 271.28 | 271.28
* Rate based on facts available with adverse inferences.

Provisional Measures

Section 733(d) of the Act states that suspension of liquidation pursuant to an affirmative preliminary determination may not remain in effect for more than four months, except where exporters representing a significant proportion of exports of the subject merchandise request that Commerce extend the four-month period to no more than six months. At the request of exporters that accounted for a significant proportion of exports of solar cells from Cambodia, Malaysia, Thailand, and Vietnam, Commerce extended the four-month period to no more than six months.⁹

⁹ See LTFV Preliminary Determinations.

Commerce published the LTFV Preliminary Determinations on December 4, 2024; therefore, the six-month provisional measures period beginning on the date of the publication of the LTFV Preliminary Determinations ended on June 1, 2025. Therefore, in accordance with section 736(a)(1) of the Act and our practice,¹⁰ Commerce will instruct CBP to terminate the suspension of liquidation and to liquidate, without regard to antidumping duties, unliquidated entries of solar cells from Cambodia, Malaysia, Thailand, and Vietnam entered, or withdrawn from warehouse, for consumption on or after June 2, 2025, the first day provisional measures were no longer in effect, until and through the day preceding the date of publication of the ITC's final injury determination in the Federal Register.

¹⁰ See, e.g., Certain Corrosion-Resistant Steel Products from India, the People's Republic of China, the Republic of Korea and Taiwan: Amended Final Affirmative Antidumping Determination for India and Taiwan, and Antidumping Duty Orders, 81 FR 48390, 48392 (July 25, 2016).

Suspension of liquidation and the collection of cash deposits will resume on the date of publication of the ITC's final determination in the Federal Register.

Establishment of the Annual Inquiry Service Lists

On September 20, 2021, Commerce published the Final Rule in the Federal Register.¹¹ On September 27, 2021, Commerce also published the Procedural Guidance in the Federal Register.¹² The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.

¹¹ See Regulations to Improve Administration and Enforcement of Antidumping and Countervailing Duty Laws, 86 FR 52300 (September 20, 2021) (Final Rule).

¹² See Scope Ruling Application; Annual Inquiry Service List; and Informational Sessions, 86 FR 53205 (September 27, 2021) (Procedural Guidance).

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹³

¹³ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL—January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹⁴ the new annual inquiry service list will be in place until the following year, when the Opportunity Notice for the anniversary month of the order is published.

¹⁴ See Procedural Guidance, 86 FR 53206.

Commerce may update an annual inquiry service list at any time as needed based on interested parties' amendments to their entries of appearance to remove or otherwise modify their list of members and representatives, or to update contact information. Any changes or announcements pertaining to these procedures will be posted to the ACCESS website at https://access.trade.gov.

Special Instructions for the Petitioner and Foreign Governments

In the Final Rule, Commerce stated that, “after an initial request and placement on the annual inquiry service list, both petitioners and foreign governments will automatically be placed on the annual inquiry service list in the years that follow.” ¹⁵ Accordingly, as stated above, the petitioner and foreign governments should submit their initial entries of appearance after publication of this notice in order to appear in the first annual inquiry service lists for these orders. Pursuant to 19 CFR 351.225(n)(3), the petitioner and foreign governments will not need to resubmit their entries of appearance each year to continue to be included on the annual inquiry service list. However, the petitioner and foreign governments are responsible for making amendments to their entries of appearance during the annual update to the annual inquiry service list in accordance with the procedures described above.

¹⁵ See Final Rule, 86 FR at 52335.

Notification to Interested Parties

This notice constitutes the AD orders with respect to solar cells from Cambodia, Malaysia, Thailand, and Vietnam, pursuant to section 736(a) of the Act. Interested parties can find a list of AD and CVD orders currently in effect at https://enforcement.trade.gov/stats/iastats1.html.

The amended final determination for Vietnam and these antidumping duty orders are published in accordance with sections 735(e) and 736(a) of the Act and 19 CFR 351.224(e) and 19 CFR 351.211(b).

Dated: June 17, 2025.
Christopher Abbott,
Deputy Assistant Secretary for Policy and Negotiations, performing the non-exclusive functions and duties of the Assistant Secretary for Enforcement and Compliance.

Appendix

Scope of the Orders

The merchandise covered by the orders is crystalline silicon photovoltaic cells, and modules, laminates, and panels, consisting of crystalline silicon photovoltaic cells, whether or not partially or fully assembled into other products, including, but not limited to, modules, laminates, panels and building integrated materials.

The orders cover crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Merchandise under consideration may be described at the time of importation as parts for final finished products that are assembled after importation, including, but not limited to, modules, laminates, panels, building-integrated modules, building-integrated panels, or other finished goods kits. Such parts that otherwise meet the definition of merchandise under consideration are included in the scope of the orders.

Excluded from the scope of the orders are thin film photovoltaic products produced from amorphous silicon (a-Si), cadmium telluride (CdTe), or copper indium gallium selenide (CIGS).

Also excluded from the scope of the orders are crystalline silicon photovoltaic cells, not exceeding 10,000 mm² in surface area, that are permanently integrated into a consumer good whose function is other than power generation and that consumes the electricity generated by the integrated crystalline silicon photovoltaic cell. Where more than one cell is permanently integrated into a consumer good, the surface area for purposes of this exclusion shall be the total combined surface area of all cells that are integrated into the consumer good.

Additionally, excluded from the scope of the orders are panels with surface area from 3,450 mm² to 33,782 mm² with one black wire and one red wire (each of type 22 AWG or 24 AWG not more than 206 mm in length when measured from panel extrusion), and not exceeding 2.9 volts, 1.1 amps, and 3.19 watts. For the purposes of this exclusion, no panel shall contain an internal battery or external computer peripheral ports.

Also excluded from the scope of the orders are:

1. Off grid CSPV panels in rigid form with a glass cover, with the following characteristics: (A) a total power output of 100 watts or less per panel; (B) a maximum surface area of 8,000 cm² per panel; (C) do not include a built-in inverter; (D) must include a permanently connected wire that terminates in either an 8 mm male barrel connector, or a two-port rectangular connector with two pins in square housings of different colors; (E) must include visible parallel grid collector metallic wire lines every 1-4 millimeters across each solar cell; and (F) must be in individual retail packaging (for purposes of this provision, retail packaging typically includes graphics, the product name, its description and/or features, and foam for transport); and

2. Off grid CSPV panels without a glass cover, with the following characteristics: (A) a total power output of 100 watts or less per panel; (B) a maximum surface area of 8,000 cm2 per panel; (C) do not include a built-in inverter; (D) must include visible parallel grid collector metallic wire lines every 1-4 millimeters across each solar cell; and (E) each panel is (1) permanently integrated into a consumer good; (2) encased in a laminated material without stitching, or (3) has all of the following characteristics: (i) the panel is encased in sewn fabric with visible stitching, (ii) includes a mesh zippered storage pocket, and (iii) includes a permanently attached wire that terminates in a female USB-A connector.

In addition, the following CSPV panels are excluded from the scope of the orders: off-grid CSPV panels in rigid form with a glass cover, with each of the following physical characteristics, whether or not assembled into a fully completed off-grid hydropanel whose function is conversion of water vapor into liquid water: (A) a total power output of no more than 80 watts per panel; (B) a surface area of less than 5,000 square centimeters (cm²) per panel; (C) do not include a built-in inverter; (D) do not have a frame around the edges of the panel; (E) include a clear glass back panel; and (F) must include a permanently connected wire that terminates in a twoport rectangular connector.

Additionally excluded from the scope of these orders are off-grid small portable crystalline silicon photovoltaic panels, with or without a glass cover, with the following characteristics: (1) a total power output of 200 watts or less per panel; (2) a maximum surface area of 16,000 cm² per panel; (3) no built-in inverter; (4) an integrated handle or a handle attached to the package for ease of carry; (5) one or more integrated kickstands for easy installation or angle adjustment; and (6) a wire of not less than 3 meters either permanently connected or attached to the package that terminates in an 8 mm diameter male barrel connector.

Also excluded from the scope of the orders are off-grid crystalline silicon photovoltaic panels in rigid form with a glass cover, with each of the following physical characteristics, whether or not assembled into a fully completed off-grid hydropanel whose function is conversion of water vapor into liquid water: (A) a total power output of no more than 180 watts per panel at 155 degrees Celsius; (B) a surface area of less than 16,000 square centimeters (cm2) per panel; (C) include a keep-out area of approximately 1,200 cm2 around the edges of the panel that does not contain solar cells; (D) do not include a built-in inverter; (E) do not have a frame around the edges of the panel; (F) include a clear glass back panel; (G) must include a permanently connected wire that terminates in a two-port rounded rectangular, sealed connector; (H) include a thermistor installed into the permanently connected wire before the twoport connector; and (I) include exposed positive and negative terminals at opposite ends of the panel, not enclosed in a junction box.

Further excluded from the scope of the orders are:

Off grid rigid CSPV panels with a glass cover, with the following characteristics: (A) a total power output of 200 watts or less per panel, (B) a maximum surface area of 10,500 cm² per panel, (C) do not include a built-in inverter, (D) must include a permanently connected wire that terminates in waterproof connector with a cylindrical positive electrode and a rectangular negative electrode with the positive and negative electrodes having an interlocking structure, (E) must include visible parallel grid collector metallic wire lines every 1-4 millimeters across each solar cell, and (F) must be in individual retail packaging (for purposes of this provision, retail packaging typically includes graphics, the product name, its description and/or features); and

Off-grid small portable crystalline silicon photovoltaic panels, with or without a glass cover, with the following characteristics: (A) a total power output of 200 watts or less per panel, (B) a maximum surface area of 16,000 cm² per panel, (C) no built-in inverter, (D) an integrated handle or a handle attached to the package for ease of carry, (E) one or more integrated kickstands for easy installation or angle adjustment, and (F) a wire either permanently connected or attached to the package terminates in waterproof connector with a cylindrical positive electrode and a rectangular negative electrode with the positive and negative electrodes having an interlocking structure.

Also excluded from the scope of the orders are:

Off grid rigid CSPV panels with a glass cover, with the following characteristics: (A) a total power output of 200 watts or less per panel, (B) a maximum surface area of 10,500 cm² per panel, (C) do not include a built-in inverter, (D) must include a permanently connected wire that terminates in waterproof connector with a cylindrical positive electrode and a rectangular negative electrode with the positive and negative electrodes having an interlocking structure, (E) must include visible parallel grid collector metallic wire lines every 1-4 millimeters across each solar cell, and (F) must be in individual retail packaging (for purposes of this provision, retail packaging typically includes graphics, the product name, its description and/or features); and

Small off-grid panels with glass cover, with the following characteristics: (A) surface area from 3,450 mm2 to 33,782 mm2, (B) with one black wire and one red wire (each of type 22AWG or 28 AWG not more than 350 mm in length when measured from panel extrusion), (C) not exceeding 10 volts, (D) not exceeding 1.1 amps, (E) not exceeding 6 watts, and (F) for the purposes of this exclusion, no panel shall contain an internal battery or external computer peripheral ports.

Additionally excluded from the scope of the orders are:

Off grid rigid CSPV panels with a glass cover, with the following characteristics: (A) a total power output of 175 watts or less per panel, (B) a maximum surface area of 9,000 cm² per panel, (C) do not include a built-in inverter, (D) must include a permanently connected wire that terminates in waterproof connector with a cylindrical positive electrode and a rectangular negative electrode with the positive and negative electrodes having an interlocking structure; (E) must include visible parallel grid collector metallic wire lines every 1-4 millimeters across each solar cell, and (F) must be in individual retail packaging (for purposes of this provision, retail packaging typically includes graphics, the product name, its description and/or features); and

Off grid CSPV panels without a glass cover, with the following characteristics, (A) a total power output of 220 watts or less per panel, (B) a maximum surface area of 16,000 cm² per panel, (C) do not include a built-in inverter, (D) must include visible parallel grid collector metallic wire lines every 1-4 millimeters across each solar cell, and (E) each panel is encased in a laminated material without stitching.

Also excluded from the scope of the orders are off-grid CSPV panels in rigid form, with or without a glass cover, permanently attached to an aluminum extrusion that is an integral component of an automation device that controls natural light, whether or not assembled into a fully completed automation device that controls natural light, with the following characteristics:

1. a total power output of 20 watts or less per panel;

2. a maximum surface area of 1,000 cm² per panel;

3. does not include a built-in inverter for powering third party devices

Modules, laminates, and panels produced in a third-country from cells produced in a subject country are covered by the orders; however, modules, laminates, and panels produced in a subject country from cells produced in a third-country are not covered by the orders.

Also excluded from the scope of the orders are all products covered by the scope of the antidumping and countervailing duty orders on Crystalline Silicon Photovoltaic Cells, Whether or Not Assembled into Modules, from the People's Republic of China: Amended Final Determination of Sales at Less Than Fair Value, and Antidumping Duty Order, 77 FR 73018 (December 7, 2012); and Crystalline Silicon Photovoltaic Cells, Whether or Not Assembled into Modules, from the People's Republic of China: Countervailing Duty Order, 77 FR 73017 (December 7, 2012).

Merchandise covered by the orders is currently classified in the Harmonized Tariff System of the United States (HTSUS) under subheadings 8541.42.0010 and 8541.43.0010. Imports of the subject merchandise may enter under HTSUS subheadings 8501.71.0000, 8501.72.1000, 8501.72.2000, 8501.72.3000, 8501.72.9000, 8501.80.1000, 8501.80.2000, 8501.80.3000, 8501.80.9000, 8507.20.8010, 8507.20.8031, 8507.20.8041, 8507.20.8061, and 8507.20.8091. These HTSUS subheadings are provided for convenience and customs purposes; the written description of the scope of the orders is dispositive.

[FR Doc. 2025-11588 Filed 6-23-25; 8:45 am]

BILLING CODE 3510-DS-P